DEPARTMENT OF JUSTICE

Antitrust Division

Notice Pursuant to the National Cooperative Research and Production Act of 1993_IMS Global Learning Consortium, Inc.

Notice is hereby given that, on April 7, 2000, pursuant to section 6(a) of the national Cooperative Research and Production Act of 1993, 15 U.S.C. 4301 et seq. (“the Act”), IMS Global Learning Consortium, Inc. has filed written notifications simultaneously with the Attorney General and the Federal Trade Commission disclosure (1) the identities of the parties and (2) the nature and objectives of the venture. The notifications were filed for the purpose of invoking the Act's provisions limiting the recovery of antitrust plaintiffs to actual damages under specified circumstances. Pursuant to Section 6(b) of the Act, the identities of the parties are: The LUVIT Corporation AB, Lund, Sweden; Trustees of the California State University, Long Beach, CA; International Business Machines Corporation, Armonk, NY; PeopoleSoft, Inc., Pleasanton, CA; Virginia Polytechnic Institute and State University, Blacksburg, VA; Committee on Institutional Cooperation, Champaign, IL; and Educause, Boulder, CO.

The nature and objective of IMS Global Learning Consortium are to formulate open technical specifications (including without limitation specifications for packaging and exchanging digitized information about courses, learners, content and education or training operations) for distributed learning environments, including related hardware and software; to promote the development of global distributed learning through the cooperative and collaborative efforts of universities, non-profit organizations, agencies of federal and state governments, companies and other organizations that make a definitive, substantial and continuing commitment to the development, evolution and/or use of advanced distributed learning environments; to gather requirements from distributed learning customers and providers; to foster widespread access to, mutual sharing and adoption of the strategies and specifications developed by the organization, both by its members and by the general public; to collaborate with other associations or agencies interested in similar and related activities; to acquire, evaluate, and disseminate information in said areas, including, but not limited to, providing such information to the general public; and to prepare and disseminate training materials for use in distributed learning environments and conduct training and educational sessions pursuant to the development and use of the strategies and specifications developed by the organization.

Constance K. Robinson,
Director of Operations, Antitrust Division.

[FR Doc. 00-23416 Filed 9-12-00; 8:45 am]

BILLING CODE 4410-11-M